DEPARTMENT OF COMMERCE

National Oceanic and Atmospheric Administration

[I.D. 102604E]

Pacific Fishery Management Council; Public Meeting

AGENCY: National Marine Fisheries Service (NMFS), National Oceanic and Atmospheric Administration (NOAA), Commerce.

ACTION: Notice of public meeting.

SUMMARY: The Pacific Fishery Management Council's (Council) Ad Hoc Groundfish Trawl Individual Quota Analytical Team (TIQ Analytical Team) will hold a working meeting which is open to the public.

DATES: The TIQ Analytical Team working meeting will begin Wednesday, November 17, 2004 at 9:30 a.m. and may go into the evening if necessary to complete business for the day. The meeting will reconvene from 8 a.m. and continue until business for the day is complete on Tuesday, November 18, 2004.

ADDRESSES: The meeting will be held at the National Marine Fisheries Service in the Regional Director's Conference Room, Building 1, 7600 Sand Point Way, Seattle, WA 98115; telephone: (206) 526-6150.

Council address: Pacific Fishery Management Council, 7700 NE Ambassador Place, Suite 200, Portland, OR 97220-1384.

FOR FURTHER INFORMATION CONTACT: Mr. Jim Seger, Staff Officer (Economist), telephone: 503-820-2280.

SUPPLEMENTARY INFORMATION: The purpose of the TIQ Analytical Team meeting is to review the Council action from the November 2004 Council meeting and plan the next analytical tasks.

Although non-emergency issues not contained in the TIQ Analytical Team meeting agenda may come before the group for discussion, those issues may not be the subject of formal committee action during these meetings. TIQ Analytical Team action will be restricted to those issues specifically listed in this notice and to any issues arising after publication of this notice requiring emergency action under Section 305(c) of the Magnuson-Stevens Fishery Conservation and Management Act, provided the public has been notified of the group's intent to take final action to address the emergency.

Entry to the NMFS facilities requires identification with a photograph (such as a student ID, state driver's license, etc.). A security guard will review the identification an issue a Visitor's Badge valid only for the date of the meeting.

Special Accommodations

The meeting is physically accessible to people with disabilities. Requests for sign language interpretation or other auxiliary aids should be directed to Ms. Carolyn Porter at 503-820-2280 at least 5 days prior to the meeting date.

Dated: October 27, 2004.
Alan D. Risenhoover,
Acting Director, Office of Sustainable Fisheries, National Marine Fisheries Service.

[FR Doc. E4-2932 Filed 10-29-04; 8:45 am]

BILLING CODE 3510-22-S